DEPARTMENT OF COMMERCE

Census Bureau

Submission for OMB Review; Comment Request

DOC has submitted to the Office of Management and Budget (OMB) for clearance the following proposal for collection of information under the provisions of the Paperwork Reduction Act (44 U.S.C. chapter 35).

Agency: U.S. Census Bureau.

Title: Annual Trade Survey.

Form Number(s): SA-42, SA-42A, SA-42 (MSBO), SA-42A (MSBO).

Agency Approval Number: 0607-0195.

Type of Request: Revision of a currently approved collection.

Burden: 3,260 hours.

Number of Respondents: 8,100.

Avg. Hours Per Response: 24 minutes.

Needs and Uses: The U.S. Census Bureau is requesting a revision to the current Office of Management and Budget (OMB) clearance for the Annual Trade Survey (ATS). The ATS currently covers only merchant wholesale establishments, and will be expanded to include manufacturers' sales branches and offices (MSBOs). The survey is an official source of annual sales, inventory, and value added measures for wholesale establishments located in the United States. The ATS provides annual data needed to improve the accuracy of the sales estimates and inventory adjustments in the Gross Domestic Product (GDP) and for benchmarking results of the Monthly Wholesale Trade Survey (MWTS) [OMB No. 0607-0190]. Data on MSBOs will address a longstanding Bureau of Economic Analysis (BEA) priority to obtain annual measures of MSBO inventories to improve BEA's estimates of business inventory change, a key component of the GDP estimate. The estimates compiled from this survey provide valuable information for economic policy decisions by the government and will be widely used by private businesses, trade organizations, professional associations, and other business research and analysis organizations.

This request is for the clearance of two existing report forms, the SA-42 and SA-42A, and two new forms, SA-42 (MSBO) and SA-42A (MSBO), which will be used to collect data for MSBOs. The forms request similar but unique sets of data items to accommodate both merchant wholesalers and manufacturers sales branches and offices as well as both large and small firms. The survey report forms are used to collect total sales, e-commerce sales, year-end inventory, and inventory valuation methods. In addition purchases are collected for merchant wholesalers and operating expenses for MSBOs. Cognitive research on the proposed MSBO forms is being conducted and will continue in October and November 2003. Results will be used to suggest revisions to clarify questions and instructions that convey definitions, in order to ensure data quality and reduce respondent burden. Revisions to the basic content of the form are not expected.

Affected Public: Business or other for-profit.

Frequency: Annually.

Respondent's Obligation: Mandatory.

Legal Authority: Title 13 U.S.C., Sections 182, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: November 14, 2003.
Madeleine Clayton,
Management Analyst, Office of the Chief Information Officer.

[FR Doc. 03-28935 Filed 11-18-03; 8:45 am]

BILLING CODE 3510-07-P